DEPARTMENT OF ENERGY

Federal Energy Regulatory Commission

[Docket No. RM06-16-000]

Mandatory Reliability Standards for the Bulk-Power System; Notice of Public Meeting

September 10, 2009.

Take notice that on September 22, 2009, the Commission Staff will hold a public meeting to present research conducted by the faculty of the University of Wisconsin-Madison, sponsored by the Commission, on Topological and Impedance Element Ranking (TIER) of the Bulk-Power System. Commission Staff will convene this meeting, beginning at 10 a.m. and ending at 12 noon (EDT), at the offices of the Federal Energy Regulatory Commission, 888 First Street, NE., Washington, DC 20426.

The Commission's Office of Electric Reliability (OER) initiated this project to develop, for purposes of section 215 of the Federal Power Act, a methodology to aid in identifying and ranking the elements of the Bulk-Power System in the United States. Specifically, OER staff is seeking: (1) Develop a process to distinguish those facilities that should not be considered part of the Bulk-Power System from those facilities that should be considered part of the Bulk-Power System; (2) identify the elements needed to operate each of the electric interconnections; and (3) rank the importance of those elements. This project may lead to a methodology that could be utilized in future proceedings to aid in refining the scope of what constitutes the Bulk-Power System subject to section 215 of the Federal Power Act.

The University of Wisconsin-Madison, in conjunction with OER staff, has developed and tested a mathematically-based model intended to reflect the physics of the Bulk-Power System. Dr. B. Lesieutre, Dr. C. DeMarco and Mr. D. Schwarting, faculty of the University of Wisconsin-Madison, will give the presentation.

The TIER report will be made available on the FERC Web calendar page for this event and on eLibrary when it is released. The Commission will accept comments on this report within 30 days after it is posted on the FERC Web site. An agenda and Power Point presentation will be posted on the FERC Web calendar page closer to the time of the presentation.

FERC conferences are accessible under section 508 of the Rehabilitation Act of 1973. For accessibility accommodations please send an e-mail to accessibility@ferc.gov or call toll free (866) 208-3372 (voice) or (202) 502-8659 (TTY), or send a fax to (202) 208-2106 with the required accommodations.

A free Web cast of this event is available through http://www.ferc.gov. Anyone with internet access who desires to view this event can do so by navigating to the Calendar of Events at http://www.ferc.gov and locating this event in the Calendar. The event will contain a link to its Web cast. The Capitol Connection provides technical support for the free Web casts. It also offers access to this event via television in the Washington, DC area and via phone-bridge for a fee. If you have any questions, visit http://www.CapitolConnection.org or contact Danelle Perkowski or David Reininger at (703) 993-3100.

Transcripts of the presentation will be available immediately for a fee from Ace Reporting Company (202-347-3700 or 1-800-336-6646).

For further technical information please contact Robert V. Snow at (202) 502-6716.

Kimberly D. Bose,
Secretary.

[FR Doc. E9-22471 Filed 9-17-09; 8:45 am]

BILLING CODE 6717-01-P